FEDERAL COMMUNICATIONS COMMISSION

[DA 15-1242]

Notice of Intent To Terminate 214 Authorization

AGENCY: Federal Communications Commission

ACTION: Notice.

SUMMARY: This notice serves as final opportunity for Ocean Technology Limited (Ocean) to respond to the July 1, 2015 letter from the Department of Justice, Federal Bureau of Investigation, the Drug Enforcement Agency, and the U.S. Marshals Service (Agencies) requesting that the Federal Communications Commission (FCC) terminate and declare null, void and no longer in effect, and/or revoke the international 214 authorization issued to Ocean by the FCC. The Agencies state that Ocean has failed to comply with commitments and undertakings in the July 9, 2013 Letter of Assurance entered into with the Agencies to address national security and law enforcement concerns. The FCC now provides final notice to Ocean that it intends to declare Ocean's international 214 authorization terminated for failure to comply with conditions of its authorization. Ocean must respond to this notice no later than 15 days after publication in the Federal Register.

DATES: Submit comments on or before December 14, 2015.

ADDRESSES: Federal Communications Commission, 445 12th Street SW., Washington DC, 20554.

FOR FURTHER INFORMATION CONTACT: Cara Grayer, Policy Division, International Bureau, at (202) 418-2960 or Cara.Grayer@fcc.gov.

SUPPLEMENTARY INFORMATION: Compliance with the commitments in the July 9, 2013 Letter of Assurance is a condition to the section 214 authorization granted to Ocean on July 17, 2013, by the FCC under file number ITC-214-20121210-00323. The FCC previously served its Notice of Intent to Terminate Ocean's 214 Authorization, DA 15-1242, to Ocean by mail, return receipt requested, at the last addresses of record which appears in the FCC's records. Ocean should send its response to Denise Coca, Chief, Policy Division, International Bureau via email at Denise.Coca@fcc.gov and file it in File No. ITC-214-20121210-00323 via IBFS at http://licensing.fcc.gov/myibfs/pleading.do. Ocean should also email a copy of its response to Cara Grayer, Policy Division, International Bureau at Cara.Grayer@fcc.gov.

Ocean's failure to respond to this notice will be deemed as an admission of the facts alleged by the Agencies.

The proceeding in this notice is treated as a “permit-but-disclose” proceeding in accordance with the Commission's ex parte rules.

Federal Communications Commission.
Denise Coca,
Chief, Policy Division, International Bureau.

[FR Doc. 2015-30232 Filed 11-25-15; 8:45 am]

BILLING CODE 6712-01-P